DEPARTMENT OF THE INTERIOR

National Park Service

Notice of Inventory Completion: U.S. Department of the Interior, National Park Service, Intermountain Region, Denver, CO

AGENCY: National Park Service, Interior.

ACTION: Notice.

Notice is here given in accordance with the Native American Graves Protection and Repatriation Act (NAGPRA), 25 U.S.C. 3003, of the completion of an inventory of human remains and associated funerary objects in the possession and control of the U.S. Department of the Interior, National Park Service, Intermountain Region, Denver, CO. The human remains and associated funerary objects were removed from El Morro National Monument, NM and unknown areas of the Southwestern United States.

This notice is published as part of the National Park Service's administrative responsibilities under NAGPRA, 25 U.S.C. 3003 (d)(3). The determinations in this notice are the joint responsibility of the NAGPRA coordinator, Intermountain Region and the superintendent, El Morro National Monument.

A detailed assessment of the human remains and associated funerary objects was made by Intermountain Region and El Morro National Monument professional staff in consultation with representatives of the Colorado River Indian Tribes of the Colorado River Indian Reservation, Arizona and California; Hopi Tribe of Arizona; Jicarilla Apache Nation, New Mexico; Navajo Nation, Arizona, New Mexico & Utah; Pueblo of Acoma, New Mexico; Pueblo of Jemez, New Mexico; Pueblo of Nambe, New Mexico; Pueblo of Pojoaque, New Mexico; Pueblo of Sandia, New Mexico; Pueblo of Santa Ana, New Mexico; Pueblo of Santa Clara, New Mexico; Pueblo of Tesuque, New Mexico; Southern Ute Indian Tribe of the Southern Ute Reservation, Colorado; Ute Mountain Tribe of the Ute Mountain Reservation, Colorado, New Mexico & Utah; and Zuni Tribe of the Zuni Reservation, New Mexico.

Prior to 1935, human remains representing a minimum of three individuals were removed from El Morro National Monument in McKinley County, NM. The human remains were donated to Western State College of Colorado, which returned them to the National Park Service in 1994. Osteological analysis in 1994 determined that the human remains are Native American. No other information is known about the human remains. No known individuals were identified. No associated funerary objects are present.

In 1985, human remains representing a minimum of three individuals were found in the curation facility at the former Southwest Regional Office in Santa Fe, NM. No known individuals were identified. No associated funerary objects are present.

In 1994, the human remains underwent osteological analysis and were found to be Native American. The curation facility houses collections from multiple parks across the Southwestern United States, but due to the lack of contextual information it is impossible to determine from which park they were originally recovered.

In 2000, human remains representing a minimum of three individuals were confiscated in Virginia as the result of a NAGPRA trafficking investigation. At the conclusion of the case, the human remains and cultural items were turned over to the National Park Service's Northeast Region, which transferred them to the Intermountain Region in 2006. No known individuals were identified. The 17 associated funerary objects are 1 bag containing leather fragments, 1 bag containing hide fragments, 1 bird bone fragment, and 14 bags containing textile fragments.

Osteological examination, radiocarbon dating, and analysis of the associated funerary objects conducted by professionals at the Smithsonian Institution indicate that the human remains and cultural items were likely removed from prehistoric and historic Native American gravesites in the Southwestern United States. However, the available information is insufficient to determine cultural affiliation.

Officials of the Intermountain Region and El Morro National Monument have determined that, pursuant to 25 U.S.C. 3001 (9-10), the human remains described above represent the physical remains of nine individuals of Native American ancestry. Officials of the Intermountain Region and El Morro National Monument also have determined that, pursuant to 25 U.S.C. 3001 (3)(A), the 17 objects described above are reasonably believed to have been placed with or near individual human remains at the time of death or later as part of the death rite or ceremony. Lastly, officials of the Intermountain Region and El Morro National Monument have determined that, pursuant to 25 U.S.C. 3001 (2), a relationship of shared group identity cannot reasonably be traced between the Native American human remains and associated funerary objects and any present-day Indian tribe.

The Native American Graves Protection and Repatriation Review Committee (Review Committee) is responsible for recommending specific actions for disposition of culturally unidentifiable human remains. In March 2007, the Intermountain Region requested that the Review Committee recommend repatriation of the nine culturally unidentifiable human remains and 17 associated funerary objects to the Pueblo of Acoma, New Mexico and Zuni Tribe of the Zuni Reservation, New Mexico as co-claimants. The human remains and cultural items were likely recovered from the geographic proximity of the Indian tribes consulted, all of whom support the co-claim. The Review Committee considered the proposal at its April 19-20, 2007 meeting and recommended disposition of the human remains to the Pueblo of Acoma, New Mexico and Zuni Tribe of the Zuni Reservation, New Mexico. The National Park Service intends to convey the 17 associated funerary objects to the tribes pursuant to 16 U.S.C. 18f-2.

A May 31, 2007 letter from the Designated Federal Official on behalf of the chair of the Review Committee to the NAGPRA coordinator, Intermountain Region transmitted the Review Committee's recommendation that the Intermountain Region effect disposition of the physical remains of nine culturally unidentifiable individuals to the two Indian tribes listed above contingent on the publication of a Notice of Inventory Completion in the Federal Register. This notice fulfills that requirement. The letter mistakenly noted that there were ten associated funerary objects rather than the seventeen described above.

Representatives of any other Indian tribe that believes itself to be culturally affiliated with the human remains and associated funerary objects should contact Dave Ruppert, NAGPRA coordinator, NPS Intermountain Region, 12795 W. Alameda Parkway, Denver, CO 80228, telephone (303) 969-2879, before September 24, 2007. Disposition of the human remains to the Pueblo of Acoma, New Mexico and Zuni Tribe of the Zuni Reservation, New Mexico may proceed after that date if no additional claimants come forward.

Intermountain Region is responsible for notifying the Colorado River Indian Tribes of the Colorado River Indian Reservation, Arizona and California; Hopi Tribe of Arizona; Jicarilla Apache Nation, New Mexico; Navajo Nation, Arizona, New Mexico & Utah; Pueblo of Acoma, New Mexico; Pueblo of Jemez, New Mexico; Pueblo of Nambe, New Mexico; Pueblo of Pojoaque, New Mexico; Pueblo of Sandia, New Mexico; Pueblo of Santa Ana, New Mexico; Pueblo of Santa Clara, New Mexico; Pueblo of Tesuque, New Mexico; Southern Ute Indian Tribe of the Southern Ute Reservation, Colorado; Ute Mountain Tribe of the Ute Mountain Reservation, Colorado, New Mexico & Utah; and Zuni Tribe of the Zuni Reservation, New Mexico that this notice has been published.

Dated: August 7, 2007.
Sherry Hutt,
Manager, National NAGPRA Program.

[FR Doc. E7-16801 Filed 8-23-07; 8:45 am]

BILLING CODE 4312-50-S